NUCLEAR REGULATORY COMMISSION

[Docket No. 50-382; NRC-2023-0046]

Entergy Operations, Inc.; Waterford Steam Electric Station, Unit 3; License Amendment Application

AGENCY: Nuclear Regulatory Commission.

ACTION: Notice; withdrawal by applicant.

SUMMARY: The U.S. Nuclear Regulatory Commission (NRC, the Commission) has granted the request of Entergy Operations, Inc. (the licensee) to withdraw its application dated November 1, 2022, for a proposed amendment to Renewed Facility Operating License No. NPF-38 for the Waterford Steam Electric Station, Unit 3. The proposed amendment would have revised Technical Specification 3/4.3-2, Table 4.3-2, “Engineered Safety Features Actuation System Instrumentation Surveillance Requirements,” Table Notation (3), to remove the exemption from testing relays K114, K305, and K313 at power.

DATES: This document was published in the Federal Register on January 3, 2024.

ADDRESSES: Please refer to Docket ID NRC-2023-0046 when contacting the NRC about the availability of information regarding this document. You may obtain publicly available information related to this document using any of the following methods:

• Federal Rulemaking Website: Go to https://www.regulations.gov and search for Docket ID NRC-2023-0046. Address questions about Docket IDs in Regulations.gov to Stacy Schumann; telephone: 301-415-0624; email: Stacy.Schumann@nrc.gov. For technical questions, contact the individual listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. The ADAMS accession number for each document referenced (if it is available in ADAMS) is provided the first time that it is mentioned in this document.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

FOR FURTHER INFORMATION CONTACT: Jason Drake, Office of Nuclear Reactor Regulation, U.S. Nuclear Regulatory Commission, Washington, DC 20555-0001, telephone: 301-415-8378; email: Jason.Drake@nrc.gov.

SUPPLEMENTARY INFORMATION: The NRC has granted the request of the licensee to withdraw its application dated November 1, 2022 (ADAMS Accession No. ML22305A693) for the proposed amendment to Renewed Facility Operating License No. NPF-38 for the Waterford Steam Electric Station, Unit 3, located in St. Charles Parish, Louisiana.

The proposed amendment would have revised TS 3/4.3-2, Table 4.3-2, “Engineered Safety Features Actuation system Instrumentation Surveillance Requirements,” Table Notation (3), to remove the exemption from testing relays K114, K305, and K313 at power.

The Commission had previously issued a Notice of Consideration of Issuance of Amendment published in the Federal Register on February 21, 2023 (88 FR 10557). However, by letter dated September 28, 2023 (ADAMS Accession No. ML23271A178), the licensee withdrew the proposed amendment.

Dated: December 28, 2023.
For the Nuclear Regulatory Commission.
Jason J. Drake,
Project Manager, Plant Licensing Branch IV, Division of Operating Reactor Licensing, Office of Nuclear Reactor Regulation.

[FR Doc. 2023-28891 Filed 1-2-24; 8:45 am]

BILLING CODE 7590-01-P